NATIONAL CREDIT UNION ADMINISTRATION

Proposed Collection; Request for Comments

AGENCY: National Credit Union Administration (NCUA).

ACTION: Notice of submission to the Office of Management and Budget.

SUMMARY: As required by the Paperwork Reduction Act of 1995, The National Credit Union Administration (NCUA) is submitting a new, proposed information collection to the Office of Management and Budget (OMB).

DATES: Written comments should be received on or before March 5, 2026 to be assured consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Dacia Rogers at (703) 518-6547, emailing PRAComments@ncua.gov, or viewing the entire information collection request at www.reginfo.gov.

SUPPLEMENTARY INFORMATION:

OMB Number: 3133-New.

Title: Travel Management.

Type of Review: New collection.

Abstract: NCUA uses a Travel Management Center (TMC) to help streamline the planning, coordination, and execution of travel-related activities for NCUA employees, State Examiners, and invitational guests. Key components include itinerary planning, booking accommodations and transportation, expense tracking, and forms for NCUA employees, State Examiners, and invitational guests to use to procure travel arrangements for official travel.

Affected Public: State or Local Governments: Private Sector: Not-for-profit institutions.

Estimated Number of Respondents: 515.

Estimated Number of Responses per Respondent: varies.

Estimated Total Annual Responses: 530.

Estimated Hours per Response: varies.

Estimated Total Annual Burden Hours: 132.5.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2026-02161 Filed 2-2-26; 8:45 am]

BILLING CODE 7535-01-P